DEPARTMENT OF VETERANS AFFAIRS

Advisory Committee on Women Veterans; Notice of Meeting

The Department of Veterans Affairs (VA) gives notice under Public Law 92-463 (Federal Advisory Committee Act) that the Advisory Committee on Women Veterans will meet March 20-23, 2006, from 8:30 a.m. to 4:30 p.m., each day, in room C-7, VA Central Office, 810 Vermont Avenue, NW., Washington, DC. The meeting is open to the public.

The purpose of the Committee is to advise the Secretary of Veterans Affairs regarding the needs of women veterans with respect to health care, rehabilitation, compensation, outreach, and other programs and activities administered by VA, designed to meet such needs. The Committee will make recommendations to the Secretary regarding such programs and activities.

On March 20, the agenda will include briefings on initiatives of the Veterans Health Administration, updates from the Veterans Benefits Administration, a roundtable discussion of VA's Women Veterans Health Program, an update on activities of the Center for Women Veterans, and presentation of Certificates of Appointment to two new Committee members. On March 21, the Committee will receive briefings and updates on issues related to the National Cemetery Administration, the Center for Veterans Enterprise, and initiatives of VA's homeless programs. On March 22, the Committee will begin preparation of the 2006 Report. On March 23, the Committee will discuss any new issues that the Committee members may introduce, as well as continue preparation of the 2006 Report.

Any member of the public wishing to attend should contact Ms. Rebecca Schiller, at the Department of Veterans Affairs, Center for Women Veterans (00W), 810 Vermont Avenue, NW., Washington, DC 20420. Ms. Schiller may be contacted either by phone at (202) 273-6193, fax at (202) 273-7092, or e-mail at 00W@mail.va.gov. Interested persons may attend, appear before, or file statements with the Committee. Written statements must be filed before the meeting, or within 10 days after the meeting.

Dated: February 3, 2006.
By direction of the Secretary.
E. Philip Riggin,
Committee Management Officer.

[FR Doc. 06-1368 Filed 2-13-06; 8:45 am]

BILLING CODE 8320-01-M